DEPARTMENT OF TRANSPORTATION

National Highway Traffic Safety Administration

49 CFR Part 571

[Docket No. NHTSA-2009-0108]

Final Vehicle Safety Rulemaking and Research Priority Plan 2010-2013

AGENCY: National Highway Traffic Safety Administration (NHTSA), Department of Transportation (DOT).

ACTION: Notice of availability of updated plan.

SUMMARY: This document announces the availability of the Final Vehicle Safety Rulemaking and Research Priority Plan 2010-2013 (Priority Plan) in Docket No. NHTSA-2009-0108. This Priority Plan is an update to the Final Vehicle Safety Rulemaking and Research Priority Plan 2009-2011 (October 2009 Plan) that was announced in the November 9, 2009, version of the Federal Register (74 FR 57623).

FOR FURTHER INFORMATION CONTACT: Dr. Joseph Carra, Director of Strategic Planning and Integration, National Highway Traffic Safety Administration, Room W45-336, 1200 New Jersey Avenue, SE., Washington, DC 20590. Telephone: 202-366-0361. E-mail: joseph.carra@dot.gov.

SUPPLEMENTARY INFORMATION: On November 9, 2009, NHTSA published a Final Notice in the Federal Register (74 FR 57623) announcing the availability of the October 2009 Plan. Today's document announces the availability of the Final Vehicle Safety Rulemaking and Research Priority Plan 2010-2013.

This plan is an internal management tool as well as a means to communicate to the public NHTSA's highest priorities to meet the Nation's motor vehicle safety challenges. Among them are programs and projects involving rollover crashes, children (both inside as well as just near vehicles), motorcoaches and fuel economy that must meet Congressional mandates or Secretarial commitments. Since these are expected to consume a significant portion of the agency's rulemaking resources, they affect the schedules of the agency's other priorities listed in this plan. This plan lists the programs and projects the agency anticipates working on even though there may not be a rulemaking planned to be issued by 2013, and in several cases, the agency doesn't anticipate that the research will be done by the end of 2013. Thus, in some cases the next step would be an agency decision in 2013 or 2014. NHTSA is also currently in the process of developing a longer-term motor vehicle safety strategic plan that would encompass the period 2014 to 2020. That strategic plan will be announced in a separate Federal Register notice.

For purposes of apprising the public on the status of progress relative to the efforts delineated in the October 2009 Plan, NHTSA has included in the current Priority Plan a section (Section V) that compares the October 2009 Plan to the current Priority Plan.

In summary of that section, there were 56 projects in the October 2009 Plan and there are 56 projects in the current Priority Plan. Combining the two plans, there were 66 separate actions. Of the 56 projects in the October 2009 Plan, 25 were priority projects and 31 were other significant projects. Of the 56 projects in the current Priority Plan, there are 23 priority projects and 33 other significant projects.

Of the 25 priority projects in the October 2009 Plan, the schedule for one was moved forward, two were completed with final rules, one had a final rule issued but more work is continuing, seven project deadlines were met (typically issuing an NPRM), progress has been made on an additional 10 projects and they are still on schedule, and four projects are behind the original schedule. There are three new priority projects added for the current Priority Plan.

Of the 31 “other significant projects” in the October 2009 Plan, one was moved forward, one was completed with a final rule, an agency decision was made on three projects, progress has been made on 11 projects and they are still on schedule, 12 are behind schedule, and three were dropped from the plan because the agency determined that they no longer reached a priority level of being an “other significant project”. Seven new “other significant projects” were added for the current Priority Plan.

Interested persons may obtain a copy of the plan, “Final Vehicle Safety Rulemaking and Research Priority Plan 2010-2013,” by downloading a copy of the document. To download a copy of the document, go to http://www.regulations.gov and follow the online instructions, or visit Docket Management Facility at U.S. Department of Transportation, 1200 New Jersey Avenue, SE., West Building Ground Floor, Room W12-140, Washington, DC 20590-0001 and reference Docket No. NHTSA-2009-0108.

Authority: 49 U.S.C. 30111, 30117, 30168; delegation of authority at 49 CFR 1.50 and 501.8.

Issued on: November 9, 2010.
Ronald L. Medford,
Deputy Administrator.

[FR Doc. 2010-28717 Filed 11-17-10; 8:45 am]

BILLING CODE 4910-59-P